FEDERAL ELECTION COMMISSION

Sunshine Act Meetings

TIME AND DATE: Thursday, January 11, 2024, at 10:00 a.m.

PLACE: Hybrid Meeting: 1050 First Street, NE Washington, DC (12th Floor) and Virtual.

Note: For those attending the meeting in person, current COVID-19 safety protocols for visitors, which are based on the CDC COVID-19 hospital admission level in Washington, DC, will be updated on the Commission's contact page by the Monday before the meeting. See the contact page at https://www.fec.gov/contact/. If you would like to virtually access the meeting, see the instructions below.

STATUS: This meeting will be open to the public, subject to the above-referenced guidance regarding the COVID-19 hospital admission level and corresponding health and safety procedures. To access the meeting virtually, go to the Commission's website www.fec.gov and click on the banner to be taken to the meeting page.

MATTERS TO BE CONSIDERED:

Opening Remarks

Draft Advisory Opinion 2023-09: Senator Catherine Cortez Masto

Draft Advisory Opinion 2023-10: Sony Pictures Television, Inc.

Management and Administrative Matters

CONTACT PERSON FOR MORE INFORMATION: Judith Ingram, Press Officer, Telephone: (202) 694-1220.

Individuals who plan to attend in person and who require special assistance, such as sign language interpretation or other reasonable accommodations, should contact Laura E. Sinram, Secretary and Clerk, at (202) 694-1040 or secretary@fec.gov, at least 72 hours prior to the meeting date.

(Authority: Government in the Sunshine Act, 5 U.S.C. 552b)

Laura E. Sinram,
Secretary and Clerk of the Commission.

[FR Doc. 2024-00252 Filed 1-4-24; 4:15 pm]

BILLING CODE 6715-01-P